DEPARTMENT OF AGRICULTURE

Forest Service

Jefferson National Forest; Monroe County, West Virginia; Giles and Montgomery County, Virginia. Mountain Valley Pipeline and Equitrans Expansion Project Supplemental Environmental Impact Statement

AGENCY: Forest Service, Agriculture (USDA).

ACTION: Notice of intent to prepare a supplemental environmental impact statement.

SUMMARY: The USDA Forest Service (Forest Service) is preparing a Supplemental Environmental Impact Statement (SEIS) to the 2017 Federal Energy Regulatory Commission (FERC) Final Environmental Impact Statement (FEIS) for the Mountain Valley Pipeline (MVP) and Equitrans Expansion Project and its subsequent 2020 Forest Service Final Supplemental Environmental Impact Statement (2020 FSEIS). The MVP project proposed action that is specific to National Forest System (NFS) lands is to construct and operate a buried 42-inch natural gas pipeline across approximately 3.5 miles of the Jefferson National Forest (JNF). The Forest Service, as the lead agency, and the Bureau of Land Management (BLM), as the Federal cooperating agency, have decisions to be made based on a review of the 2017 FERC FEIS, the 2020 FSEIS, and this supplemental analysis.

DATES: The draft supplemental environmental impact statement is expected by January 2023, with a 45-day comment period immediately following. The final supplemental environmental impact statement is expected by Summer of 2023.

FOR FURTHER INFORMATION CONTACT: For further information on this project, please contact Joby Timm, Forest Supervisor for the George Washington and Jefferson National Forests, by leaving a voicemail at 1-888-603-0261 or an email at SM.FS.GWJNF-PA@usda.gov. For inquiries for the Bureau of Land Management, contact Robert Swithers, District Manager, BLM Southeastern States District Office, by phone at 601-919-4650 or by email at BLM_ES_SSDO_Comments@blm.gov.

Individuals who use telecommunication devices for the deaf (TDD) may call the Federal Relay Service (FRS) at 1-800-877-8339, 24 hours a day, every day of the year, including holidays.

SUPPLEMENTARY INFORMATION:

Purpose and Need for Action

The Forest Service's purpose and need for the proposed action is to respond to a proposal from Mountain Valley, LLC to construct and operate a buried 42-inch interstate natural gas pipeline that would cross NFS lands on the JNF along a proposed 3.5-mile corridor. A Forest Service decision is needed because the project as proposed is inconsistent with several Land Management Plan standards without an amendment to the JNF Land Management Plan. Relatedly, there is a need to determine what terms and conditions, or stipulations, should be provided to the BLM in order to protect resources and the public interest consistent with the Mineral Leasing Act (MLA), 30 U.S.C. 185(h).

A supplemental analysis and new decision from the Forest Service are needed because the United States Court of Appeals for the Fourth Circuit (Court) vacated both the 2017 and 2021 Forest Service Records of Decision (RODs). In its opinion published on January 25, 2022, the Court identified National Forest Management Act (NFMA) and National Environmental Policy Act (NEPA) issues. To resolve the issues identified by the Court, there is a need, at a minimum, to consider information about actual sedimentation and erosion impacts, consider FERC's 2021 Environmental Assessment of the use of trenchless boring for crossing streams, and comply with the Forest Service 2012 Planning Rule soil and riparian resources requirements at 36 CFR 219.8. Additionally, there may be relevant new information or changed environmental conditions to consider since the development of the 2020 FSEIS and the Forest Service ROD was signed in January 2021.

The Bureau of Land Management is required to respond to Mountain Valley, LLC's amended MLA right-of-way (ROW) application for the MVP project to construct and operate a natural gas pipeline across NFS and U.S. Army Corps of Engineers lands consistent with the MLA, 30 U.S.C. 185, and BLM's implementing regulations, 43 CFR part 2880. Under the MLA, the BLM has responsibility for reviewing Mountain Valley, LLC's ROW application and authority to issue a decision on whether to approve, approve with modifications, or deny the application.

The BLM previously approved the portion of the ROW crossing Corps of Engineers lands in 2017, and that portion of the BLM's decision remains in effect; the BLM's remaining decision involves only the portion of the ROW crossing NFS lands. Like the Forest Service, the BLM will base its decision on a review of the 2017 FERC FEIS, the 2020 FSEIS, and this supplemental analysis. The Bureau of Land Management will work as a cooperating agency with the Forest Service to complete the necessary environmental analysis to address the issues identified by the Court.

Proposed Action

In response to the purpose and need, the Forest Service's proposed action is to amend the Jefferson National Forest Land Management Plan as necessary to allow for the MVP to cross the Jefferson National Forest. The Forest Service would provide construction and operation terms and conditions, or stipulations as needed for the actions listed below. The terms and conditions, or stipulations would be submitted to the BLM for inclusion in the ROW grant. The Forest Service would also provide concurrence to the BLM to issue the ROW grant. The construction, operation and maintenance actions that need terms and conditions, or stipulations, and Forest Service concurrence include:

• Construction of a 42-inch pipeline across 3.5 miles of the JNF.

• The use of a 125-foot-wide temporary construction ROW for pipeline installation and trench spoil. The width would be reduced to approximately 75 feet to cross most wetlands. Once construction is complete, the MVP would retain an approximately 50-foot permanent ROW to operate the pipeline.

• Installation of surface pipeline markers to advise the public of pipeline presence and cathodic pipeline protection test stations that are required by Department of Transportation.

An integral part of the proposed action is adherance to the Plan of Development (POD) that guides the pipeline's construction, operation, and maintenance. The POD includes resource mitigation for reducing or eliminating impacts to resources. See the 2017 FERC FEIS, Sec. 1.5 for a complete list of requirements for the MVP that is managed by the FERC.

Consistent with the Forest Service's proposed action to amend the Plan and concur on the ROW grant, the BLM's proposed action is to grant a ROW under the MLA, 30 U.S.C. 185, for the project to cross the JNF.

Preliminary Alternatives

For this project, two preliminary alternatives have been identified for analysis: a No Action alternative will consider effects if the JNF Land Management Plan were not amended as necessary to allow for the MVP to cross the JNF, if BLM did not issue a ROW grant, and if the Forest Service provided no concurrence to BLM, and therefore no terms, conditions, or stipulations.

The Proposed Action alternative will consider effects of the Forest Service proposed action to amend the JNF Land Management Plan as necessary to allow for the MVP to cross the JNF, for the BLM to issue a ROW grant for the project to cross the JNF, and for the Forest Service to provide concurrence with construction and operation terms and conditions, or stipulations.

Expected Impacts

This SEIS will address the deficiencies identified by the Court; specifically by addressing impacts to soil and water from the proposed pipeline construction and from the proposed Land Management Plan amendment. Short-term adverse impacts to soil and water are expected from the proposed pipeline and Land Management Plan amendment. Impacts are expected to be similar to those disclosed in the 2017 FERC FEIS and the 2020 FSEIS. This SEIS will also consider relevant new information and changed environmental conditions in its analysis of effects beyond those disclosed in the 2017 FERC FEIS and the 2020 FSEIS.

Lead and Cooperating Agencies

The Forest Service is the lead agency for this supplemental environmental impact statement, and the BLM is a cooperating agency. Each agency has a separate decision to be made.

Responsible Officials

For the Forest Service, the responsible official is the Under Secretary, Natural Resources and Environment, U.S. Department of Agriculture. The expected responsible official for the Bureau of Land Management is the Eastern States State Director.

Scoping, Public Comment, and Administrative Review

Scoping will not be repeated, and this SEIS will focus on the topics identified by the Court. Additional opportunities for public comment will be provided when the draft SEIS is available. The responsible official is the Under Secretary, Natural Resources and Environment, U.S. Department of Agriculture, therefore a Forest Service decision to amend the Land Management Plan would not be subject to either the 36 CFR 218 or 36 CFR 219 pre-decisional administrative review (36 CFR 218.13(b); 36 CFR 219.13(b)).

Permits, Licenses or Other Authorizations Required

Section 1.5 of the 2017 FERC FEIS contains a description of the permits, approvals, and regulatory requirements that must be met or be obtained by Mountain Valley, LLC., including a ROW to be issued by BLM as part of the proposed action for this SEIS. The Certificate (FERC 2017d) also contains detailed language about required permits, licenses, and agency approvals associated with construction, operation, and maintenance of the project.

Nature of Decision To Be Made

Forest Service

The Responsible Official will review the proposed action including alternatives, proposed terms and conditions, stipulations, the POD, environmental consequences that would be applicable to NFS lands, public comments, and the project record in order to make the following decisions: (1) Whether to approve a Land Management Plan amendment that would modify eleven standards in the JNF's Land Management Plan; (2) Determine what terms and conditions, or stipulations, should apply to a BLM ROW grant; (3) Whether to issue a written letter of concurrence to BLM if the decision is to assent to the project on NFS lands; and, (4) Whether to adopt all or portions 2017 FERC FEIS that is relevant to NFS lands.

While the Equitrans Expansion project was included in the FERC FEIS, it is not on NFS lands. Therefore, no analysis will be prepared or decision made on that project.

Bureau of Land Management

Consistent with the MLA, 30 U.S.C. 185, and BLM's implementing regulations, 43 CFR part 2880, the BLM will review Mountain Valley's amended MLA ROW application, the FERC FEIS, the 2020 SEIS, and the Forest Service supplemental analysis to determine whether to approve, approve with modifications, or deny the ROW application through the NFS lands. As a cooperating agency, the BLM intends to rely on and adopt the Forest Service supplemental analysis for its decision, as long as the analysis provides sufficient evidence to support the decision and the Forest Service addresses the BLM's comments and suggestions to the BLM's satisfaction. Before issuing a decision on Mountain Valley's application, the BLM would need the Forest Service's written concurrence.

Through the concurrence process, if the BLM's decision is to approve the ROW, the Forest Service would submit to the BLM any stipulations for inclusion in the ROW grant that are deemed necessary to protect the environment and otherwise protect the public interest consistent with 30 U.S.C. 185(h); 43 CFR 2885.11. The BLM decision would be documented in a separate ROD.

Substantive Provisions

An amendment to the Jefferson National Forest Land Management Plan would exempt the project from compliance with the following eleven Land Management Plan standards in order to allow the BLM to grant a ROW: FW-248 (utility corridors); FW-5 (revegetation); FW-8 (soil compaction in water saturated areas); FW-9 (soil impacts from heavy equipment use); FW-13 and FW14 (exposed soil and residual basal area within the channeled ephermal zone); 11-003 (exposed soil within the riparian corridor); 6C-007 and 6C-026 (tree clearing and utility corridors in the old growth management area); 4A-028 (Appalachian National Scenic Trail and utility corridors); and FW-184 (scenic integrity objectives).

The Forest Service's Planning Rule at 36 CFR 219.13(b)(2) requires responsible officials to provide notice of which substantive requirements of 36 CFR 219.8 through 219.11 are likely to be directly related to the amendment. The substantive Planning Rule provisions that are likely to be directly related to the amendments are: § 219.8(a)(1) (terrestrial ecosystems); § 219.8(a)(2)(ii) (soils and water productivity); § 219.8(a)(2)(iv) (water resources); § 219.8(a)(3)(i) (ecological integrity of riparian areas); § 219.9(b) (contributions to recovery of threatened and endangered species); § 219.10(a)(3) (utility corridors); § 219.10(b)(1)(vi) (other designated areas); § 219.10(b)(1)(i) (scenic character); and § 219.11(c) (timber harvesting for purposes other than timber production).

Homer Wilkes,
Under Secretary, Natural Resources and Environment, U.S. Department of Agriculture.

[FR Doc. 2022-24994 Filed 11-16-22; 8:45 am]

BILLING CODE 3411-15-P